INTERNATIONAL TRADE COMMISSION

[Investigation Nos. 731-TA-986-987 (Final)]

Ferrovanadium From China and South Africa

AGENCY: United States International Trade Commission.

ACTION: Revised schedule for the subject reviews.

DATES: Effective Date: July 1, 2008.

FOR FURTHER INFORMATION CONTACT: Edward Petronzio (202-205-3176), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On May 22, 2008, the Commission established a schedule for the conduct of the subject reviews (73 FR 31711, June 3, 2008). Subsequently, the parties submitted a request to postpone the hearing date. The Commission, therefore, is revising its schedule to conform with the parties' requests.

The Commission's new schedule for the reviews is as follows: requests to appear at the hearing must be filed with the Secretary to the Commission not later than September 29, 2008; the prehearing conference will be held at the U.S. International Trade Commission Building at 9:30 a.m. on October 2, 2008; the hearing will be held at the U.S. International Trade Commission Building at 9:30 a.m. on October 7, 2008; the deadline for filing posthearing briefs is October 17, 2008; the Commission will make its final release of information on November 5, 2008; and final party comments are due on November 7, 2008.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

Issued: July 2, 2008.
By order of the Commission.
Marilyn R. Abbott,
Secretary to the Commission.

[FR Doc. E8-15407 Filed 7-7-08; 8:45 am]

BILLING CODE 7020-02-P